DEPARTMENT OF THE INTERIOR

Fish and Wildlife Service

Environmental Statements; Availability, etc: Incidental Take Permits—Travis County, TX; Golden Cheeked Warbler

Notice of Availability of an Environmental Assessment/Habitat Conservation Plan and Receipt of Application for Incidental Take Permit for Construction and Occupation of Residential and Commercial Development on Portions of the Approximately 740-acre Ribelin Ranch Property, Austin, Travis County, Texas.

SUMMARY: Ribelin Ranch Partners, Ltd., Lucia Francis, and Charles Ribelin (Applicants) have applied to the U.S. Fish and Wildlife Service (Service) for an incidental take permit pursuant to Section 10(a) of the Endangered Species Act (Act). The Application has been assigned permit number TE-040090-0. The requested permit, which is for a period of 30 years, would authorize the incidental take of the endangered golden-cheeked warbler (Dendroica chrysoparia). The proposed take would occur as a result of the construction and occupation of residential and commercial development on portions of the approximately 740-acre Ribelin Ranch Property on R.M. 2222, Austin, Travis County, Texas.

The Service has prepared the Environmental Assessment/Habitat Conservation Plan (EA/HCP) for the incidental take application. A determination of jeopardy to the species or a Finding of No Significant Impact (FONSI) will not be made before 60 days from the date of publication of this notice. This notice is provided pursuant to Section 10(c) of the Act and National Environmental Policy Act regulations (40 CFR 1506.6).

DATES: Written comments on the application should be received on or before June 25, 2001.

ADDRESSES: Persons wishing to review the application may obtain a copy by writing to the Regional Director, U.S. Fish and Wildlife Service, P.O. Box 1306, Albuquerque, New Mexico 87103. Persons wishing to review the EA/HCP may obtain a copy by contacting Sybil Vosler, Ecological Services Field Office, 10711 Burnet Road, Suite 200, Austin, Texas 78758 (512/490-0063). Documents will be available for public inspection by written request, by appointment only, during normal business hours (8 to 4:30) U.S. Fish and Wildlife Service, Austin, Texas. Written data or comments concerning the application(s) and EA/HCPs should be submitted to the Field Supervisor, Ecological Field Office, Austin, Texas at the above address. Please refer to permit number TE-040090-0 when submitting comments.

FOR FURTHER INFORMATION CONTACT: Sybil Vosler at the above Austin Ecological Service Field Office.

SUPPLEMENTARY INFORMATION: Section 9 of the Act prohibits the “taking” of endangered species such as the golden-cheeked warbler. However, the Service, under limited circumstances, may issue permits to take endangered wildlife species incidental to, and not the purpose of, otherwise lawful activities. Regulations governing permits for endangered species are at 50 CFR 17.22.

Applicant: Ribelin Ranch Partners, Ltd., Lucia Francis, and Charles Ribelin plan to construct residential and commercial development on 160 acres of the approximately 740-acre Ribelin Ranch Property on R.M. 2222, Austin, Travis County, Texas. This action will indirectly impact the habitat of the golden-cheeked warbler. The development will eliminate approximately 168 acres of golden-cheeked warbler habitat which may result in the take of 10 to 12 golden-cheeked warbler territories. The applicant proposes to compensate for this incidental take of golden-cheeked warbler habitat by preserving 240 acres of GCW habitat in perpetuity; minimization of on-site habitat destruction; education and encouragement of the homeowners in the use of xeriscaping, clearing only between August 1 to March 1 when the warblers are not present; and prohibition of deer and bird feeders that encourage the growth of populations of species that parasitize, predate or out-compete the golden-cheeked warbler or destroy its habitat. Alternatives to this action were rejected because not developing the subject property with federally listed species present was not economically feasible and alteration of the project design would increase the impacts.

Geoffrey L. Haskett,
Acting Regional Director, Region 2, Albuquerque, New Mexico.

[FR Doc. 01-10063 Filed 4-23-01; 8:45 am]

BILLING CODE 4510-55-P